DEPARTMENT OF TRANSPORTATION

National Highway Traffic Safety Administration

[Docket No. DOT-NHTSA-2023-0015]

Agency Information Collection Activities; Notice and Request for Comment; Automated Vehicle Transparency and Engagement for Safe Testing (AV TEST) Initiative

AGENCY: National Highway Traffic Safety Administration (NHTSA), Department of Transportation (DOT).

ACTION: Notice and request for comments on a request for approval for extension with modification of a currently approved information collection.

SUMMARY: The National Highway Traffic Safety Administration (NHTSA) invites public comments about our intention to request approval from the Office of Management and Budget (OMB) for an extension of a currently approved information collection. Before a Federal agency can collect certain information from the public, it must receive approval from OMB. Under procedures established by the Paperwork Reduction Act of 1995, before seeking OMB approval, Federal agencies must solicit public comment on proposed collections of information. This document describes an existing collection of information for NHTSA's Automated Vehicle Transparency and Engagement for Safe Testing (AV TEST) Initiative for which NHTSA intends to seek renewed OMB approval. The AV TEST Initiative involves the voluntary collection of information from entities testing vehicles equipped with automated driving systems (ADS) and from States and local authorities involved in the regulation of ADS testing. The purpose of this collection is to provide information to the public about ADS testing operations in the U.S. and applicable State and local laws, regulations, and guidelines.

DATES: Comments must be submitted on or before June 5, 2023.

ADDRESSES: You may submit comments identified by the Docket No. DOT-NHTSA-2023-0015 through any of the following methods:

• Federal eRulemaking Portal: http://www.regulations.gov. Follow the online instructions for submitting comments.

• Fax: 1-202-493-2251.

• Mail: Docket Management Facility, U.S. Department of Transportation, 1200 New Jersey Avenue SE, West Building, Room W12-140, Washington, DC 20590, between 9:00 a.m. and 5:00 p.m., Monday through Friday, except on Federal holidays.

• Hand Delivery or Courier: West Building Ground Floor, Room W12-140, 1200 New Jersey Avenue SE, Washington, DC 20590-0001 between 9:00 a.m. and 5:00 p.m. ET, Monday through Friday, except Federal holidays. To be sure someone is there to help you, please call (202) 366-9322 before coming.

• Instructions: All submissions must include the agency name and docket number for this proposed collection of information. Note that all comments received will be posted without change to http://www.regulations.gov, including any personal information provided. Please see the Privacy Act heading below.

• Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

• Docket: For access to the docket to read background documents or comments received, go to http://www.regulations.gov or the street address listed above. To be sure someone is there to help you, please call (202) 366-9322 before coming. Follow the online instructions for accessing the dockets via internet.

FOR FURTHER INFORMATION CONTACT: For additional information or access to background documents, contact Chris Wiacek, Office of Data Acquisition, (NSA-100), Room W53-478, 1200 New Jersey Avenue SE, Washington, DC 20590. Mr. Wiacek's telephone number is (202) 366-4801.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (i) whether the proposed collection of information is necessary for the proper performance of the functions of the agency, including whether the information will have practical utility; (ii) the accuracy of the agency's estimate of the burden of the proposed collection of information, including the validity of the methodology and assumptions used; (iii) how to enhance the quality, utility, and clarity of the information to be collected; (iv) how to minimize the burden of the collection of information on those who are to respond, including the use of appropriate automated, electronic, mechanical, or other technological collection techniques or other forms of information technology, e.g., permitting electronic submission of responses. In compliance with these requirements, NHTSA asks for public comments on the following proposed collection of information:

Title: Automated Vehicle Transparency and Engagement for Safe Testing (“AV TEST”) Initiative.

OMB Control Number: 2127-0748.

Type of Request: Request for approval of an existing information collection.

Type of Review Requested: Regular.

Affected Public: There are two information collection components to this request. The first affects entities engaged in testing of ADS vehicles, including original manufacturers of ADS vehicles and ADS vehicle equipment, and operators of ADS vehicles. The second affects local authorities regulating testing of ADS vehicles within their jurisdictions, including States, cities, counties, and other municipalities.

Request Expiration Date of Approval: Three years from date of approval.

Summary of the Collection of Information: The U.S. Department of Transportation (DOT), National Highway Traffic Safety Administration (NHTSA) was established by Congress to save lives, prevent injuries, and reduce economic costs due to motor vehicle crashes through education, research, safety standards, and enforcement activity. DOT and NHTSA are fully committed to reaching an era of crash-free roadways through the deployment of innovative lifesaving technologies. The prevalence of automotive crashes in the United States underscores the urgency to develop and deploy lifesaving technologies that can dramatically decrease the number of fatalities and injuries on our Nation's roadways. NHTSA believes that Automated Driving System (ADS) technology, including technology contemplating no human driver at all, has the potential to significantly improve roadway safety in the United States. This technology remains substantially in development phases with companies across the United States performing varying levels of development, research, and testing relating to the performance of various aspects of ADS vehicle technologies. While much of these development operations occur in private facilities and closed-course test tracks, many stakeholders have progressed to conducting ADS vehicle testing on public roads or in public demonstrations. Moreover, to regulate such operations in their jurisdictions, many local authorities, such as States and cities, have passed laws governing ADS vehicle testing on public roads. These statutes, regulations, and ordinances vary, ranging from operational requirements to mandating the submission of periodic reports detailing ADS vehicle operation.

Description of the Need for the Information and Use of the Information: The AV TEST Initiative seeks to enhance public education and engagement with public ADS vehicle testing by coalescing information regarding respondents' various testing operations or requirements into a centralized resource. This information collections seeks voluntarily-provided information from entities performing ADS testing about their operations and information from local authorities about requirements or recommendations for such operations. NHTSA maintains a digital platform on its website that collects information from respondents and makes the information about ADS operations and applicable State and local requirements and recommendations available to members of the public.

The program supports two main objectives. The first objective is to provide the public with access to geographic visualizations of testing at the national, State, and local levels. This information is displayed on a graphic of the United States, with projects overlaid on the geographic areas in which the testing project is taking place. By clicking on a testing location, members of the public will be able see additional information about the operation and the ADS operator. Additional information may include basic information about the ADS operator, a brief statement about the entity, specific details of the testing activity, high-level (non-confidential) descriptions of the vehicles and technology, photos of the test vehicles, the dates on which testing occurs, frequency of vehicle operations, the number of vehicles participating in the project, the specific streets or areas comprising the testing routes, information about safety drivers and their training, information about engagement with the community and/or local government, weblinks to the company's websites with brief introductory statements, and a link to the company's Voluntary Safety Self-Assessment.¹

¹ Voluntary Self-Assessments are described in Automated Driving Systems 2.0: A Vision for Safety, available at https://www.nhtsa.gov/sites/nhtsa.dot.gov/files/documents/13069a-ads2.0_090617_v9a_tag.pdf. VSSAs are covered by the PRA Clearance with OMB Control Number 2127-0723.

The second objective is to provide members of the public with information collected from States and local authorities that regulate ADS operations. State and local authorities are asked to provide weblinks for specific ADS-related topics, such as statutes, regulations, or guidelines for ADS operations, privacy-related issues, emergency response policies and training, or other activities that cultivate ADS testing. This program provides a central resource for the aforementioned information concerning ADS testing across the United States.

Estimated Number of Respondents: NHTSA anticipates that the Initiative could expand to include up to 35 State or local government respondents and 40 ADS developer, ADS vehicle manufacturer, or ADS operator respondents per year.

Frequency: Participation is completely voluntary and each participant will choose its respective degree of involvement and the frequency of its submissions. Therefore, the frequency of a participant's response may vary due to a variety of factors, such as the degree of the entity's participation in the initiative or the frequency with which each entity modifies its ADS testing operations or, in the case of local authorities, amends its regulations governing such operations.

Estimated Total Annual Burden Hours: NHTSA estimates that the annual burden of participation will be approximately 48 hours for private industry respondents that include ADS operators, developers, or vehicle manufacturers. This total number of hours represents approximately four hours per month to perform data entry for testing projects (4 hours × 12 months = 48). Therefore, for the estimated 40 ADS operator participants, the total burden is estimated to be 1,920 hours per year (40 respondents × 48 hours).

NHTSA estimates that each State or local authority respondent would spend approximately 10 hours responding to this collection. Therefore, for the estimated 35 State or local authority participants, the total burden is estimated to be 350 hours per year.

The total burden for the entire information collection request is estimated to be 2,270 hours (1,920 hours + 350 hours). The total burden hours have been reduced from the original estimate of 2,520 when the agency first sought approval for this information collection because of the lower estimated participation. However, the agency believes the annual hours per respondent has not changed.

The labor cost associated with this collection of information is derived by (1) applying the appropriate average hourly labor rate published by the Bureau of Labor Statistics, (2) dividing by either 0.705 ² (70.5%), for private industry workers, or 0.619 (61.9%), for state and local government workers, to obtain the total cost of compensation, and (3) multiplying by the estimated burden hours for each respondent type.

² See Table 1. Employer Costs for Employee Compensation by ownership (Sep. 2022), available at https://www.bls.gov/news.release/ecec.t01.htm (accessed March 14, 2023).

Labor costs associated with original manufacturers of ADS Vehicles or ADS vehicle equipment and operators of ADS vehicles are estimated to be $60.48 per hour for “Project Management Specialists,” Occupation Code 13-1082, ($42.64 ³ per hour ÷ 0.705). The labor cost per private industry respondent for each year for development and submission of information is estimated to be $2,903.04 ($60.48 × 48 hours). Therefore, the total annual labor cost for private industry to participate in the AV TEST Initiative is estimated to be $116,121.60 ($2,903.04 × 40 respondents).

³ See May 2021 National Industry-Specific Occupational Employment and Wage Estimates.

NAICS 336100—Motor Vehicle Manufacturing, available (accessed March 14, 2023).

Labor costs associated with local and regional authorities, such as states, counties, and cities are estimated to be $66.79 per hour for “Legal Support Workers,” Occupation Code 23-2099, ($41.34 ⁴ per hour ÷ 0.619). The labor cost per regional authority respondent for each year for development and submission of information is estimated to be $667.90 ($66.79 × 10 hours). Therefore, the total annual labor cost for regional authorities to participate in the AV TEST Initiative is estimated to be $23,376.50 ($667.9 × 35 respondents).

⁴ See May 2021 National Occupational Employment and Wage Estimates by ownership.

Federal, state, and local government, including government-owned schools and hospitals and the U.S. Postal Service, available at https://www.bls.gov/oes/current/999001.htm#23-0000 (accessed March 14, 2023).

The total annual labor costs for all respondents, private industry and regional authorities together, are estimated to be $139,499 ($116,122 + $23.377). See Table 1 below for a summary of estimated burden hours and estimated labor costs.

Table 1—Summary of Estimated Burden Hours and Estimated Labor Costs
Respondent type | Number of respondents | Annual hours per respondent | Labor cost per hour | Annual labor cost per respondent | Total estimated burden hours | Total annual labor costs
Original Manufacturer of ADS Vehicles or ADS Vehicle Equipment and Operators of ADS Vehicles | 40 | 48 | $60.48 | $2,903.04 | 1,920 | $116,122
State or Local Authority | 35 | 10 | 66.79 | 667.900 | 350 | 23,377
Total All Respondents | 75 |  |  |  | 2,270 | 139,499

Estimated Total Annual Burden Costs: NHTSA estimates that there will be no costs to respondents other than costs associated with burden hours.

Public Comments Invited: You are asked to comment on any aspect of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29.

Chou-Lin Chen,
Associate Administrator, National Center for Statistics and Analysis.

[FR Doc. 2023-07123 Filed 4-5-23; 8:45 am]

BILLING CODE 4910-59-P